DEPARTMENT OF LABOR

Employment and Training Administration

[TA-W-55,799]

CDI Professional Services, Workers at General Dynamics Land Systems, California Technical Center, Goleta, CA; Notice of Affirmative Determination Regarding Application for Reconsideration

By application of December 10, 2004, a petitioner requested administrative reconsideration of the Department of Labor's Notice of Negative Determination Regarding Eligibility to Apply for Worker Adjustment Assistance, applicable to workers of the subject firm. The denial was signed on November 17, 2004, and the notice of determination was published in the Federal Register on December 9, 2004 (69 FR 71428).

The Department carefully reviewed the petitioner's request for reconsideration and has determined that the Department will conduct further investigation based on new information provided.

Conclusion

After careful review of the application, I conclude that the claim is of sufficient weight to justify reconsideration of the Department of Labor's prior decision. The application is, therefore, granted.

Signed in Washington, DC, this 30th day of December, 2004.
Elliott S. Kushner,
Certifying Officer, Division of Trade Adjustment Assistance.

[FR Doc. E5-204 Filed 1-19-05; 8:45 am]

BILLING CODE 4510-30-P